DEPARTMENT OF ENERGY

[FE Docket No. PP-300]

Application for Presidential Permit; Maine Public Service Company

AGENCY: Office of Fossil Energy, DOE.

ACTION: Notice of application.

SUMMARY: Maine Public Service Company (MPSCo) has applied for a Presidential permit for the construction, operation, maintenance, and connection of a 138,000-volt (138-kV) electric transmission line across the U.S. border with Canada.

DATES: Comments, protests, or requests to intervene must be submitted on or before April 18, 2005.

ADDRESSES: Comments, protests, or requests to intervene should be addressed as follows: Office of Fossil Energy (FE-27), U.S. Department of Energy, 1000 Independence Avenue, SW., Washington, DC 20585 (FAX 202-287-5736).

FOR FURTHER INFORMATION CONTACT: Dr. Jerry Pell (Program Office) at 202-586-3362 or Jerry.Pell@hq.doe.gov, or Michael T. Skinker (Program Attorney) at 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On January 21, 2005, MPSCo filed an application with the Office of Fossil Energy (FE) of the Department of Energy (DOE) for a Presidential permit for the construction of a 138-kV electric transmission line that would cross the U.S.-Canadian border. MPSCo is a wholly-owned subsidiary of Maine and Maritimes Corporation, both of which are headquartered in Presque Isle, Maine.

The proposed 138-kV transmission line would originate at MPSCo's existing substation located in Limestone, Maine, and extend approximately 10.5 miles to the U.S.-Canadian border in the vicinity of Hamlin, Maine. At the border, the proposed facilities would connect with an existing 138-kV transmission line owned and operated by New Brunswick Power Corporation, the electric utility in the Province of New Brunswick, Canada. MPSCo claims that the proposed international transmission line is required to increase the reliability of the electrical grid in northern Maine.

Since the restructuring of the electric power industry began, resulting in the introduction of different types of competitive entities into the marketplace, DOE has consistently expressed its policy that cross-border trade in electric energy should be subject to the same principles of comparable open access and non-discrimination that apply to transmission in interstate commerce. DOE has stated that policy in export authorization granted to entities requesting authority to export over international transmission facilities. Specifically, DOE expects transmitting utilities owning border facilities constructed pursuant to Presidential permits to provide access across the border in accordance with the principles of comparable open access and non-discrimination contained in the FPA and articulated in Federal Energy Regulation Commission Order No. 888, as amended (Promoting Wholesale Competition Through Open Access Non-Discriminatory Transmission Services by Public Utilities). In furtherance of this policy, DOE intends to condition any Presidential permit issued in this proceeding on compliance with these open access principles.

Procedural Matters. Any person desiring to become a party to this proceeding or to be heard by filing comments or protests to this application should file a petition to intervene, comment or protest at the address provided above in accordance with § 385.211 or 385.214 of the Federal Energy Regulatory Commission's Rules of Practice and Procedures (18 CFR 385.211, 385.214). Fifteen copies of each petition and protest should be filed with DOE on or before the date listed above.

Additional copies of such petitions to intervene or protest also should be filed directly with Thomas F. Osgood, Director of Engineering, System Operations, Asset Management, Maine Public Service Company, P.O. Box 1209, Presque Isle ME 04769-1209.

Before a Presidential permit may be issued or amended, the DOE must determine that the proposed action will not adversely impact on the reliability of the U.S. electric power supply system. In addition, DOE must consider the environmental impacts of the proposed action (i.e., granting the Presidential permit, with any conditions and limitations, or denying it) pursuant to the National Environmental Policy Act of 1969 (NEPA). DOE also must obtain the concurrences of the Secretary of State and the Secretary of Defense before taking final action on a Presidential permit application.

The NEPA compliance process is a cooperative non-adversarial process involving members of the public, State governments, tribal governments, and the Federal Government. The process affords all persons interested in or potentially affected by the environmental consequences of a proposed action an opportunity to present their views, which will be considered in the preparation of the environmental documentation for the proposed action. Intervening and becoming a party to this proceeding will not create any special status for the petitioner with regard to the NEPA process. Notices of forthcoming NEPA activities and information on how to participate in those activities will appear in the Federal Register.

Copies of this application will be made available, upon request, for public inspection and copying at the DOE address provided above. In addition, the application may be viewed on, or downloaded from, the Office of Fossil Energy Web site at http://www.fe.doe.gov/programs/electricityregulation/index.html. Select “Pending Proceedings” from the options menu.

Issued in Washington, DC, on March 11, 2005.
Anthony J. Como,
Deputy Director, Electric Power Regulation, Office of Fossil Energy.

[FR Doc. 05-5309 Filed 3-16-05; 8:45 am]

BILLING CODE 6450-01-P